DEPARTMENT OF JUSTICE

[OMB Number 1123-0011]

Agency Information Collection Activities; Proposed eCollection eComments Requested; Department of Justice Equitable Sharing Agreement and Certification

AGENCY: Forfeiture and Money Laundering Section, Department of Justice.

ACTION: 30-day notice.

SUMMARY: The Department of Justice (DOJ), Criminal Division, Asset Forfeiture and Money Laundering Section, will be submitting the following information collection request to the Office of Management and Budget (OMB) for review and approval in accordance with the Paperwork Reduction Act of 1995. This proposed information collection was previously published in the Federal Register Volume 79, Number 128, page 38070 on July 3, 2014, allowing for a 60 day comment period.

DATES: The purpose of this notice is to allow for an additional 30 days for public comment until October 8, 2014.

FOR FURTHER INFORMATION CONTACT: If you have comments, especially on the estimated public burden or associated response time, suggestions, or need a copy of the proposed information collection instrument with instructions or additional information, please contact Jennifer Bickford, Acting Assistant Deputy Chief, Asset Forfeiture and Money Laundering Section, 1400 New York Avenue NW., Washington, DC 20005 (phone: 202-514-1263). Written comments and/or suggestions can also be directed to the Office of Management and Budget, Officer of Information and Regulatory Affairs, Attention Department of Justice Desk Officer, Washington DC 20503 or sent to OIRA_submission@omb.eop.gov.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of this Information Collection 1123-0011:

1 Type of Information Collection: Extension with changes, of the Department of Justice Equitable Sharing Agreement and Certification, a previously approved collection for which approval will expire on September 30, 2014.

2 The Title of the Form/Collection: Department of Justice Equitable Sharing Agreement and Certification.

3 The agency form number, if any, and the applicable component of the Department sponsoring the collection: There is not an agency form number. The applicable component within the Department of Justice is the Asset Forfeiture and Money Laundering Section, in the Criminal Division.

4 Affected public who will be asked or required to respond, as well as a brief abstract:

The Attorney General is required by statute to “assure that any property transferred to a State or local law enforcement agency . . . will serve to encourage further cooperation between the recipient State or local agency and Federal law enforcement agencies.” 21 U.S.C. 881(e)(3). The Asset Forfeiture and Money Laundering Section (AFMLS) ensures such cooperation by requiring that all such “equitably shared” funds be used only for law enforcement purposes and not be distributed to other governmental agencies by the recipient law enforcement agencies. By requiring that law enforcement agencies that participate in the Equitable Sharing Program (Program) file an Equitable Sharing Agreement and Certification (ESAC), AFMLS can readily ensure compliance with its statutory obligations.

The ESAC requires information regarding the receipt and expenditure of Program funds from the participating agency. Accordingly, it seeks information that is exclusively in the hands of the participating agency.

5 An estimate of the total number of respondents and the amount of time estimated for an average respondent to respond: An estimated 7,600 state and local law enforcement agencies electronically file the ESAC annually with AFMLS. It is estimated that it takes 30 minutes per year to enter the information. All of the approximately 7,600 agencies must fully complete the form each year to maintain compliance and continue participation in the Department of Justice Equitable Sharing Program.

6 An estimate of the total public burden (in hours) associated with the collection: The estimated public burden associated with this collection is 3,800 hours. It is estimated that respondents will take 30 minutes to complete the form. (7,600 participants × 30 minutes = 3,800 hours).

If additional information is required contact: Jerri Murray, Department Clearance Officer, United States Department of Justice, Justice Management Division, Policy and Planning Staff, Two Constitution Square, 145 N Street NE., Room 3E.405B, Washington, DC 20530.

Dated: September 3, 2014.
Jerri Murray,
Department Clearance Officer for PRA, U.S. Department of Justice.

[FR Doc. 2014-21281 Filed 9-5-14; 8:45 am]

BILLING CODE 4410-14-P